DEPARTMENT OF ENERGY

Federal Energy Regulatory Commission

18 CFR Part 35

[Docket No. RM01-8-012]

Revised Public Utility Filing Requirements for Electric Quarterly Reports

AGENCY: Federal Energy Regulatory Commission, Department of Energy.

ACTION: Withdrawal of notice of proposed rulemaking and termination of rulemaking proceeding.

SUMMARY: The Commission withdraws a notice of proposed rulemaking, which proposed to revise the Electric Quarterly Report (EQR) Data Dictionary to add “Simultaneous Exchange” to the list of available Product Names in the EQR.

DATES: This withdrawal will become effective February 3, 2020.

FOR FURTHER INFORMATION CONTACT: Suthima Malayaman (Legal Information), Office of the General Counsel, Federal Energy Regulatory Commission, 888 First Street NE, Washington, DC 20426, (202) 502-8864.

SUPPLEMENTARY INFORMATION:

1. On March 15, 2012, the Commission issued a Notice of Proposed Rulemaking (NOPR) in this proceeding.¹ For the reasons set forth below, we are exercising our discretion to withdraw the NOPR and terminate this rulemaking proceeding.

¹ Revised Public Utility Filing Requirements for Electric Quarterly Reports, 77 FR 16494 (Mar. 21, 2012), FERC Stats. & Regs. ¶ 32,687 (2012).

I. Background

2. In the NOPR, the Commission proposed to revise the Electric Quarterly Report (EQR) Data Dictionary to add “Simultaneous Exchange” to the list of available Product Names in the EQR and to require all EQR filers to use this term, when appropriate, in the Contract Data section and the Transaction Data section of the EQR.² The Commission stated that, simultaneous exchanges, which occur in both organized and non-organized energy markets, are complicated and varied. The Commission expressed its concern that the complexity of simultaneous exchanges may obscure the true nature of these transactions, and may enable market participants to circumvent market rules. Thus, in order to enhance transparency, the Commission asserted that it is important that EQR filers report simultaneous exchanges in the EQR.

² Id. P 6. The Commission proposed the following definition: “Simultaneous exchanges occur when a pair of simultaneously arranged (i.e., part of the same negotiations) wholesale power transactions between the same counterparties in which party A sells an electricity product to party B at one location and party B sells a similar electricity product to party A at a different location have an overlapping delivery period. The simultaneous exchange is the overlapping portion (both in volume and delivery period) of these wholesale power transactions.” Id.

3. The Commission clarified that only the overlapping portion of a simultaneous exchange transaction should be reported as a simultaneous exchange.³ In addition, the Commission proposed that non-overlapping portions of the arrangements should be reported in a separate entry as a power sale.

³ Id. P 9.

4. The Commission further proposed that parties reporting simultaneous exchange transactions report the price spread for these transactions, rather than the price assigned by the parties of the individual power sales that make up the simultaneous exchange.⁴ The Commission stated that, for the parties to a simultaneous exchange transaction, prices assigned to the power at either point in the transaction (if applicable) do not necessarily represent the economic values of the power being exchanged at those points. Thus, to ensure the presence of meaningful price information in EQR, the Commission proposed to adopt the requirement that EQR filers report the price spread of each simultaneous exchange.

⁴ Id. P 10.

5. Finally, the Commission proposed to require each party entering into a simultaneous exchange to report both the point of delivery and the point of receipt associated with the simultaneous exchange transaction.⁵

⁵ Id. P 12.

II. Discussion

6. Subsequent to the issuance of the NOPR, significant changes have occurred in the way power is exchanged in markets across the country. For instance, in November 2014, the California Independent System Operator Corporation and PacifiCorp launched the Western Energy Imbalance Market (EIM).⁶ The EIM provides EQR-reportable products that are similar to simultaneous exchange transactions, and the availability of these products may have reduced the use of simultaneous exchange transactions. As a result, we conclude that it is no longer necessary to adopt the regulation proposed in the NOPR. We therefore withdraw the NOPR and terminate this rulemaking proceeding.

⁶ Cal. Indep. Sys. Operator Corp., 147 FERC ¶ 61,231 (2014). As of 2019, the EIM now has nine active participants.

The Commission orders: The Notice of Proposed Rulemaking is hereby withdrawn and Docket No. RM01-8-012 is hereby terminated.

By direction of the Commission.
Issued: December 19, 2019.
Nathaniel J. Davis, Sr.,
Deputy Secretary.

[FR Doc. 2019-27922 Filed 1-2-20; 8:45 am]

BILLING CODE 6717-01-P